SOCIAL SECURITY ADMINISTRATION

Agency Information Collection Activities: Proposed Request and Comment Request

The Social Security Administration (SSA) publishes a list of information collection packages that will require clearance by the Office of Management and Budget (OMB) in compliance with Pub. L. 104-13, the Paperwork Reduction Act of 1995, effective October 1, 1995. The information collection packages that may be included in this notice are for new information collections, approval of existing information collections, revisions to OMB-approved information collections, and extensions (no change) of OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed and/or faxed to the individuals at the addresses and fax numbers listed below:

(OMB):

Office of Management and Budget, Attn: Desk Officer for SSA, Fax: (202) 395-6974.

(SSA):

Social Security Administration, DCFAM, Attn: Reports Clearance Officer, 1338 Annex Building, 6401 Security Blvd., Baltimore, MD 21235, Fax: (410) 965-6400.

I. The information collections listed below are pending at SSA and will be submitted to OMB within 60 days from the date of this notice. Therefore, your comments should be submitted to SSA within 60 days from the date of this publication. You can obtain copies of the collection instruments by calling the SSA Reports Clearance Officer at (410) 965-0454 or by writing to the address listed above.

1. Farm Arrangement Questionnaire—20 CFR 404.1082(c)—0960-0064. SSA uses the information collected on the SSA-7157-F4 to determine if farm rental income may be considered self-employment income for Social Security benefits coverage purposes. The respondents are individuals alleging self-employment income from the renting of land for farming activities.

Type of Request: Extension of an OMB-approved information collection.

Number of Respondents: 38,000.

Frequency of Response: 1.

Average Burden per Response: 30 minutes.

Estimated Annual Burden: 19,000 hours.

2. Application for Benefits Under a U.S. International Social Security Agreement—20 CFR 404.1925—0960-0448. The information collected on the SSA-2490-BK is required to determine entitlement to old-age, survivors or disability benefits from the United States or from a country that has entered into a Social Security agreement with the United States. The respondents are individuals who are applying for benefits from the U.S. or from a totalization agreement country.

Type of Request: Extension of an OMB-approved information collection.

Number of Respondents: 23,200.

Frequency of Response: 1.

Average Burden per Response: 30 minutes.

Estimated Average Burden: 11,600 hours.

3. Letter to Landlord Requesting Rental Information—20 CFR 416.1130(b)—0960-0454. Form SSA-L5061 provides a nationally uniform vehicle for collecting information from landlords for use in making rental subsidy determinations in the Supplemental Security Income (SSI) program. The information is used in deciding whether income limits are met for SSI eligibility. Respondents are landlords who provide subsidized rental arrangements to SSI applicants and recipients.

Type of Request: Extension of an OMB-approved information collection.

Number of Respondents: 49,000.

Frequency of Response: 1.

Average Burden per Response: 10 minutes.

Estimated Annual Burden: 8,167 hours.

4. Plan for Achieving Self-Support—20 CFR 416.1180-1182, 416.1225-1227, 416.110(e)—0960-0559. The information on form SSA-545 is collected by SSA when a Supplemental Security Income (SSI) applicant/recipient desires to use available income and resources to obtain education and/or training in order to become self-supportive. The information is used to evaluate the recipient's plan for achieving self-support to determine whether the plan may be approved under the provisions of the SSI program. The respondents are SSI applicants/recipients who are blind or disabled.

Type of Request: Revision of an OMB-approved information collection.

Number of Respondents: 7,000.

Frequency of Response: 1.

Average Burden per Response: 2 hours.

Estimated Annual Burden: 14,000 hours.

5. Disability Update Report—20 CFR 404.1589-404.1595, 20 CFR 416.988-416.996—0960-0511. Forms SSA-455 and SSA-455-OCR-SM are used by SSA to collect information when the continuing disability review (CDR) diary of a recipient of SSA-administered payments, based on disability, has matured or there is an indication of possible medical improvement. The information collected from beneficiaries is reviewed by specialists in the evaluation of work and earnings and in disability adjudication. The respondents are recipients of benefits, based on disability, under title II and/or XVI of the Social Security Act.

Type of Request: Extension of an OMB-approved information collection.

Number of Respondents: 981,000.

Frequency of Response: 1.

Average Burden per Response: 15 minutes.

Estimated Annual Burden: 245,250 hours.

II. The information collections listed below have been submitted to OMB for clearance. Your comments on the information collections would be most useful if received by OMB and SSA within 30 days from the date of this publication. You can obtain a copy of the OMB clearance packages by calling the SSA Reports Clearance Officer at (410) 965-0454, or by writing to the address listed above.

1. Statement Regarding Contributions—20 CFR 360-366 and 404.736—0960-0020. The determination of one-half support or contributions to support must be made to entitle certain child applicants to social security benefits. SSA uses Form SSA-783 to collect the information necessary to make such a determination. The respondents are persons giving information about a child's sources of support for entitlement to child's benefits.

Type of Request: Extension of an OMB-approved information collection.

Number of Respondents: 30,000.

Frequency of Response: 1.

Average Burden per Response: 17 minutes.

Estimated Annual Burden: 8,500 hours.

2. Report of Death by Funeral Director—20 CFR 404.715, 404.720, 416.635—0960-0142. SSA uses the information on Form SSA-721 to make timely and accurate decisions based on the report of death including: (1) Proving the death of an insured individual, (2) learning of the death of a beneficiary whose benefits should terminate, and (3) determining who is eligible for the Lump-Sum Death Payment (LSDP) or may be eligible for benefits. The respondents are funeral directors with knowledge of the fact of death.

Type of Request: Extension of an OMB-approved information collection.

Number of Respondents: 741,113.

Frequency of Response: 1.

Average Burden per Response: 3.5 minutes.

Estimated Annual Burden: 43,232 hours.

3. Authorization To Obtain Earnings Data From the Social Security Administration—0960-0602. The information collected on Form SSA-581 is used to verify the authorization of the wage earner, or other party, to access the correct earnings record and disposition of the response. This access is required in order to produce an itemized statement for release to the proper third party. The respondents are individuals, and various private/public organizations/agencies needing detailed earnings information.

Type of Request: Extension of an OMB-approved information collection.

Number of Respondents: 60,000.

Frequency of Response: 1.

Average Burden per Response: 2 minutes.

Estimated Average Burden: 2,000 hours.

Dated: April 8, 2005.
Faye L. Lipsky,
Acting Reports Clearance Officer, Social Security Administration.

[FR Doc. 05-7451 Filed 4-13-05; 8:45 am]

BILLING CODE 4191-02-P